DEPARTMENT OF DEFENSE

GENERAL SERVICES ADMINISTRATION

NATIONAL AERONAUTICS AND SPACE ADMINISTRATION

48 CFR Chapter 1

[Docket FAR 2010-0076, Sequence 3]

Federal Acquisition Regulation; Federal Acquisition Circular 2005-41; Introduction

AGENCIES: Department of Defense (DoD), General Services Administration (GSA), and National Aeronautics and Space Administration (NASA).

ACTION: Summary presentation of final rule.

SUMMARY: This document summarizes the Federal Acquisition Regulation (FAR) rule agreed to by GSA, DoD, and NASA in this Federal Acquisition Circular (FAC) 2005-41. A companion document, the Small Entity Compliance Guide (SECG), follows this FAC. The FAC, including the SECG, is available via the Internet at http://www.regulations.gov.

DATES: For effective date, see separate document, which follows.

FOR FURTHER INFORMATION CONTACT: The analyst whose name appears in the table below. Please cite FAC 2005-41 and the specific FAR case number. For information pertaining to status or publication schedules, contact the FAR Secretariat at (202) 501-4755.

Rule Listed in FAC 2005-41
Subject | FAR case | Analyst
Use of Project Labor Agreements for Federal Construction Projects | 2009-005 | Woodson.

SUPPLEMENTARY INFORMATION: A summary for the FAR rule follows. For the actual revisions and/or amendments made by this FAR case, refer to FAR Case 2009-005.

FAC 2005-41 amends the FAR as specified below:

Use of Project Labor Agreements for Federal Construction Projects (FAR Case 2009-005)

This final rule amends the FAR to implement Executive Order (E.O.) 13502, Use of Project Labor Agreements for Federal Construction Projects. The E.O. encourages the use of project labor agreements for Federal construction projects where the total cost to the Government is $25 million or more in order to promote economy and efficiency in Federal procurement. The rule provides that an agency may, if appropriate, require that every contractor and subcontractor engaged in construction on a construction project agree, for that project, to negotiate or become a party to a project labor agreement with one or more labor organizations. The rule identifies factors that agencies may consider to help them decide, on a case-by-case basis, whether the use of a project labor agreement is likely to promote economy and efficiency in the performance of a specific construction project, and multiple strategies for timing the Federal Government's receipt of project labor agreements.

Dated: April 2, 2010.
Al Matera,
Director, Acquisition Policy Division.

Federal Acquisition Circular

Federal Acquisition Circular (FAC) 2005-41 is issued under the authority of the Secretary of Defense, the Administrator of General Services, and the Administrator for the National Aeronautics and Space Administration.

Unless otherwise specified, all Federal Acquisition Regulation (FAR) and other directive material contained in FAC 2005-41 is effective May 13, 2010.

Dated: April 1, 2010.
Shay D. Assad,
Director, Defense Procurement and Acquisition Policy.

Dated: April 2, 2010.
Rodney P. Lantier,
Acting Senior Procurement Executive, Office of Acquisition Policy, U.S. General Services Administration.

Dated: April 1, 2010.
William P. McNally,
Assistant Administrator for Procurement, National Aeronautics and Space Administration.

[FR Doc. 2010-8117 Filed 4-12-10; 8:45 am]

BILLING CODE 6820-EP-S